NATIONAL SCIENCE FOUNDATION

National Science Board and Its Subdivisions; Sunshine Act Meetings

Date and Time: May 3, 4, 2004.

May 3, 2004: 8 a.m.—4:30 p.m.

Concurrent Sessions:

8 a.m.-11 a.m.—Open Session

11 a.m.-12:15 p.m.—Open Session

11 a.m.-11:30 a.m.—Open Session

12:15 p.m.-12:30 p.m.—Closed Session

12:30 p.m.-1 p.m.—Closed Session

1 p.m.-1:45 p.m.—Open Session

1:45 p.m.-2:30 p.m.—Closed Session

2:30 p.m.-3:45 p.m.—Closed Session

3:45 p.m.-4:30 p.m.—Open Session

May 4: 8:30 a.m.—3 p.m.

Concurrent Sessions:

8:30 a.m.-10 a.m.—Open Session

10 a.m.-10:30 a.m.—Closed Session

10:30 a.m.-12:30 p.m.—Open Session

12:30 p.m.-1 p.m.—Closed Session

1 p.m.-1:15 p.m.—Closed Session

1:15 p.m.-3 p.m.—Open Session

Place: The National Science Foundation, 4201 Wilson Boulevard, Arlington, VA 22230, http://www.nsf.gov/nsb.

FOR FURTHER INFORMATION CONTACT: NSF Information Center (703) 292-5111.

Status: Part of this meeting will be closed to the public. Part of this meeting will be open to the public.

Matters To Be Considered:

Monday, May 3, 2004

Open

Committee on Programs & Plans, Session I (8 a.m.-11 a.m.) Room 1235

• Report on Roadmap & MREFC Panel Process

• Continuing Discussion:

—Setting Priorities for Large Research Facilities

—Process for Prioritization of Large Facility Projects

Ad Hoc Task Group on High Risk Research (11 a.m.-11:30 a.m.) Room 1295

• Discussion of Workshop Plans and White Paper

Subcommittee on Polar Issues (11 a.m.-12:30 p.m.) Room 1235

• Acting Chairman's Remarks

• Approval of Minutes

• OPP Director's Remarks

• IceCube Neutrino Observatory

• Polar Instrastructure

• Environmental Protection and Remediation

Executive Committee (12:30 p.m.-12:45 p.m.) Room 1295

• Approval of Minutes

• Updates or New Business From Committee Members

Committee on Strategy & Budget (1 p.m.-1:45 p.m.) Room 1235

• Approval of March 2004 Minutes

• Discussion of Planning & Strategy for Transitioning ITR Priority Area

• Discussion of NSF Responses to CSB Inquiries made March, 2004

• NSF Long Range Planning

Committee on Programs and Plans, Session II (3:45 p.m.-4:30 p.m.) Room 1235

• Approval of Minutes, March 2004

• NSB Information Item: Underground Laboratory

• Updates:

—Subcommittee on Polar Issues

—Task Force on Long-Lived Data Collections

—Ad Hoc Working Group on High Risk Research

Closed

Subcommittee on Polar Issues (12 noon-12:30 p.m.) Room 1235

• NSB Action Item

Committee on Strategy & Budget (1:45 p.m.-2:30 p.m.) Room 1235

• Preliminary Discussion of FY 2006 Budget

Tuesday, May 4, 2004

Open

Committee on Audit & Oversight (8:30 a.m.-10 a.m.) (Room 1235)

• Approval of Memorandum of Discussion, March 2004

• CFO Update

• CIO Update

• FY 2003 Merit Review Report

• OIG Semiannual Report

Committee on Education and Human Resources (10:30 a.m.-12:30 p.m.) (Room 1235)

• Approval of Minutes

• Comments From the Chair

• Report From S&E Indicators

• Broadening Participation Workshop Revised Findings and Recommendations

• Report From EHR Assistant Director

• Other Business

Plenary Session of the Board (1:15 p.m.-3 p.m.) Room 1235

• Approval of Open Minutes From March, 2004

• Closed Session Items for August, 2004

• Chairman's Report, including

—NSB Meeting Calendar for 2005

• Director's Report, including

—NSF Long-Range Planning

—Update on Smithsonian MOU

• Committee Reports, including

—Executive Committee Report, 2003

—2003 Merit Review Report

Closed

Committee on Audit & Oversight (10 a.m.-10:30 a.m.) (Room 1235)

• Pending OIG Investigation

Plenary Session of the Board (12:30 p.m. to 1 p.m.) Room 1235

• Approval of Executive Closed Minutes from March, 2004

• Report of Nominating Committee

• NSB Elections

Plenary Session of the Board (1 p.m.-1:15 p.m.) Room 1235

• Approval of Closed Minutes from March, 2004

• Award Actions

• FY 2006 NSF Budget

Michael P. Crosby,
Executive Officer, NSB.

[FR Doc. 04-9981 Filed 4-28-04; 12:36 pm]

BILLING CODE 7555-01-P